DEPARTMENT OF VETERANS AFFAIRS

Privacy Act of 1974: System of Records

AGENCY: Department of Veterans Affairs (VA).

ACTION: Notice of Amendment of System of Records—VA Police Badge and Training Records System—VA (83VA07).

SUMMARY: As required by the Privacy Act of 1974, Title 5 United States Code, Section 552a(e), notice is hereby given that the Department of Veterans Affairs (VA) is amending VA Police Badge and Training Records System—VA (83VA07) as set forth in 67 FR 49747 dated November 3, 1992. VA is republishing this system notice in its entirety.

DATES: Comments on the amended system of records must be received no later than January 7, 2009. If no public comment is received during the period allowed for comment or unless otherwise published in the Federal Register by VA, the amended system will become effective January 7, 2009.

ADDRESSES: Written comments may be submitted through www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 461-4902 for an appointment. In addition, during the comment period, comments may be viewed online through the Federal Docket Management System (FDMS) at www.Regulations.gov.

FOR FURTHER INFORMATION CONTACT: Director, Law Enforcement Training Center (07A2), Department of Veterans Affairs 2200 Fort Roots Drive, Bldg 104, North Little Rock, AR 72114.

SUPPLEMENTARY INFORMATION:

I. Description of the Systems of Records

This system of records contains information regarding VA Police Officers who have attended the Basic VA Police Training Course and supplemental professional training held at the VA Law Enforcement Training Center. Specifically, this system of records contains each VA police officer's name, Social Security number, badge number, date of birth, sex, examination scores and class standing, entry-on-duty date, and their duty station. The following routine uses for information in this system are added or restate existing uses to this system.

1. The record of an individual covered by this system of records may be disclosed to a Member of Congress, or a staff person acting for the Member, when the Member or staff person requests the record on behalf of and at the written request of the individual.

2. Disclosure may be made to the National Archives and Records Administration in records management inspections conducted under the authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for purposes of laws administered by VA, in order for the contractor or sub-contractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

Compatibility of the Proposed Routine Uses

The Privacy Act permits disclosure of information about individuals without their consent for a routine use when the information will be used for a purpose that is compatible with the purpose for which the information is collected. In all of the routine use disclosures described above, either the recipient of the information will use the information in connection with a matter relating to one of VA's programs; to provide a benefit to VA; or because disclosure is required by law.

The notice of intent to amend and an advance copy of the system notice have been sent to the appropriate Congressional committees and to the Administrator of Office of Management and Budget (OMB) as required by 5 U.S.C. 552a(r) (Privacy Act) and guidelines issued by OMB (65 FR 77677), December 12, 2000.

Approved: November 14, 2008.
Gordon H. Mansfield,
Deputy Secretary of Veterans Affairs.

83VA07

SYSTEM NAME:

VA Police Badge and Training Records System—VA

SYSTEM LOCATION:

VA Law Enforcement Training Center, VA Medical Center, 2200 Fort Roots Drive, Bldg 104, North Little Rock, AR 72114.

CATEGORIES OF INDIVIDUALS COVERED BY THE SYSTEM:

VA Police Officers who have attended the Basic VA Police Training Course and supplemental professional training held at the VA Law Enforcement Training Center.

CATEGORIES OF RECORDS IN THE SYSTEM:

This system of records contains each VA police officer's name, social security number, badge number, date of birth, sex, examination scores and class standing, entry-on-duty date, and their duty station.

AUTHORITY FOR MAINTENANCE OF THE SYSTEM:

38 U.S.C. 501 and 902

PURPOSE(S):

The records and information contained in this system of records are necessary for the effective administration and management of the Department's nationwide Security and Law Enforcement Program. The collection and use of accurate, up-to-date data are necessary for the purpose of enforcing the law and protecting persons and property on VA property and at VA Central Office.

ROUTINE USES OF RECORDS MAINTAINED IN THE SYSTEM, INCLUDING CATEGORIES OF USERS AND THE PURPOSES OF SUCH USES:

1. The record of an individual who is covered by this system of records may be disclosed to a Member of Congress, or a staff person acting for the Member, when the Member or staff person requests the record on behalf of and at the written request of the individual.

2. Disclosure may be made to the National Archives and Records Administration in records management inspections conducted under the authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or sub-contractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in Title 38 U.S.C. 5724, as the terms are defined in Title 38 U.S.C. 5727.

8. Disclosure may be made to the DoJ and United States attorneys in defense or prosecution of litigation involving the United States, and to Federal agencies upon their request in connection with review of administrative tort claims filed under the Federal Tort Claims Act, Title 28 United States Code, Section 2672.

9. Any information in this system, except the name and address of a veteran, may be disclosed to a Federal, State, or local agency maintaining civil or criminal violation records or other pertinent information such as prior employment history, prior Federal employment background investigations, and/or personal or educational background in order for VA to obtain information relevant to the hiring, transfer, or retention of an employee, the letting of a contract, the granting of a security clearance, or the issuance of a grant or other benefit. The name and address of a veteran may be disclosed to a Federal agency under this routine use if this information has been requested by the Federal agency in order to respond to the VA inquiry.

10. Information in this system regarding traffic accidents may be disclosed to private insurance companies for use in determining payment of a claim under a policy.

11. To assist attorneys in representing their clients, any information in this system may be disclosed to attorneys representing veterans, U.S. government employees, retirees, volunteers, contractors, subcontractors, or private citizens being investigated and prosecuted for violating the law, except where VA has decided release is inappropriate under Title 5 United States Code, Section 552a(j) and (k).

12. Disclosure of information to the Federal Labor Relations Authority (including its General Counsel) when requested in connection with the investigation and resolution of allegations of unfair labor practices; in connection with the resolution of exceptions to arbitrator awards when a question of material fact is raised; in connection with matters before the Federal Service Impasses Panel; and to investigate representation petitions and conduct or supervise representation elections.

13. Information may be disclosed to the Equal Employment Opportunity Commission when requested in connection with investigations of alleged or possible discrimination practices, examination of Federal affirmative employment programs, compliance with the Uniform Guidelines of Employee Selection Procedures, or other functions vested in the Commission by the President's Reorganization Plan No. 1 of 1978.

14. Information may be disclosed to officials of the Merit Systems Protection Board, and the Office of the Special Counsel, when requested in connection with appeals, special studies of the civil service and other merit systems, review of rules and regulations, investigation of alleged or possible prohibited personnel practices, and such other functions, promulgated in Title 5 United States Code, Sections 1205 and 1206, or as may be authorized by law.

15. Disclosure may be made to the VA-appointed representative of an employee of all notices, determinations, decisions, or other written communications issued to the employee in connection with an examination ordered by VA under medical evaluation (formerly fitness-for-duty) examination procedures or Department-filed disability retirement procedures.

16. To the Office of Management and Budget when necessary to the review of private relief legislation pursuant to OMB Circular No. A-19.

POLICIES AND PRACTICES FOR STORING, RETRIEVING, ACCESSING, RETAINING AND DISPOSING OF RECORDS IN THE SYSTEM:

STORAGE:

The VA Law Enforcement Training Center maintains the information on the mainframe Information Resources Management System which will subsequently be transferred to hard disk.

RETRIEVABILITY:

Information is retrieved by the VA police officer's name, badge number or class number.

SAFEGUARDS:

Information is under the control of the Deputy Assistant Secretary for Security and Law Enforcement and staff members who have a legitimate need to know the contents of the system of records in order to perform their duties. Computer records are stored in a computer network to which only these individuals have access. No personal identifiers are used in statistical and management reports.

RETENTION AND DISPOSAL:

These records are retained and disposed of in accordance with General Records Schedule 18, item 22a, approved by the National Archives and Records Administration (NARA). Records are destroyed upon notification of death or not later than five years after separation or transfer of employee, whichever is applicable. The records are disposed of by electronic erasure, shredding, or burning.

SYSTEM MANAGER(S) AND ADDRESS:

Director, Law Enforcement Training Center, 2200 Fort Roots Drive, North Little Rock, AR 72214.

NOTIFICATION PROCEDURE:

Individuals desiring to know whether this system of records contains a record pertaining to him or her, how he or she may gain access to such a record, and how he or she may contest the content of such a record may write to the following address: Director, Law Enforcement Training Center, 2200 Fort Roots Drive, North Little Rock, AR 72214. The following information, or as much as is available, should be furnished in order to identify the record: Name of individual, class number, or badge number in order to identify the record.

RECORDS ACCESS PROCEDURES:

Same as notification procedures. Requesters should also reasonably specify the record contents being sought. Rules regarding access to Privacy Act records appear in Title 5 CFR part 552d. If additional information or assistance is required, contact the Director, Law Enforcement Training Center, 2200 Fort Roots Drive, North Little Rock, AR 72114, 501-257-4160.

CONTESTING RECORD PROCEDURES:

Same as notification procedures. Requesters should also reasonably identify the record, specify the information they are contesting, state the corrective action sought and the reasons for the correction along with supporting justification showing why the record is not accurate, timely, relevant, or complete. Rules regarding amendment of Privacy Act records appear in Title 5 CFR part 552d. If additional information or assistance is required, contact the Director, Law Enforcement Training Center, 2200 Fort Roots Drive, North Little Rock, AR 72114, 501-257-4160.

RECORD SOURCE CATEGORIES:

Personal information is furnished by medical center personnel submitting names of newly hired VA police officers for training and may be furnished or corrected subsequently by trainees themselves. Assigned badge numbers for police officers are assigned by the VA Law Enforcement Training Center and entered into the record.

[FR Doc. E8-29022 Filed 12-5-08; 8:45 am]

BILLING CODE 8320-01-P